DEPARTMENT OF HOMELAND SECURITY

Federal Emergency Management Agency

44 CFR Part 67

[Docket No. FEMA-B-7735]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Directorate, Federal Emergency Management Agency, 500 C Street, SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | *Elevation in feet (NGVD) +Elevation in feet (NAVD) #Depth in feet above ground: Effective | *Elevation in feet (NGVD) +Elevation in feet (NAVD) #Depth in feet above ground: Modified | Communities affected
Cook County, Illinois, and Incorporated Areas
Calumet Union Drainage Ditch | At confluence with Little Calumet River | +597 | +592 | Village of South Holland, City of Harvey, City of Markham, Unincorporated Areas of Cook County.
| 500 feet upstream of confluence with Calumet Union Drainage Ditch Southwest Branch | +609 | +608
Calumet Union Drainage Ditch Southwest Branch | At confluence with Calumet Union Drainage Ditch | +609 | +608 | City of Markham, Unincorporated Areas of Cook County.
| Approximately 1100 feet downstream of 167th Street | +609 | +608
Deer Creek | At confluence with Thorn Creek | +615 | +616 | Village of Glenwood, Unincorporated Areas of Cook County.
| At confluence of Third Creek, downstream of Cottage Grove Avenue | +620 | +621
Farmer's Creek | At pump station flood wall, 150 feet downstream of Busey Highway | +633 | +630 | City of Des Plaines, Unincorporated Areas of Cook County.
| Approximately 1000 feet upstream of Emerson Street | +634 | +633
Higgins Creek | Just downstream of Willie Road | +656 | +655 | City of Des Plaines, Unincorporated Areas of Cook County.
| Just downstream of Hamilton Road | +660 | +659
Tributary A | Just downstream of Interstate 90 | +657 | +659 | City of Des Plaines, Unincorporated Areas of Cook County, Village of Elk Grove Village.
| 80 feet upstream of Higgins Road | +666 | +665
Tributary B | Confluence with Higgins Creek Tributary A | +658 | +659 | Unincorporated Areas of Cook County, Village of Elk Grove Village.
| Just downstream of Elmhurst Road | +658 | +660
Little Calumet River | At confluence with Calumet Sag Channel | +588 | +585 | Village of South Holland, City of Blue Island, City of Calumet City, City of Harvey, Unincorporated Areas of Cook County, Village of Dixmoor, Village of Dolton, Village of Lansing, Village of Riverdale.
| Illinois—Indiana State Line | +594 | +596
Midlothian Creek | At confluence with Little Calumet River | +590 | +587 | City of Blue Island.
| 200 feet upstream of Chatham Street | +590 | +589
North Creek | At confluence with Thorn Creek | +607 | +606 | Unincorporated Areas of Cook County.
| Just downstream of Calumet Expressway | +608 | +607
Poplar Creek Tributary A | Just upstream of Higgins Road | +807 | +809 | Village of Hoffman Estates.
| Just downstream of Greenspoint Parkway | +812 | +813
Prairie Creek | At confluence with Farmer's Creek | +630 | +631 | City of Des Plaines, City of Park Ridge, Unincorporated Areas of Cook County, Village of Niles.
| Just downstream of Greenwood Road | None | +643
Thorn Creek | At confluence with Little Calumet River | +597 | +595 | Village of South Holland, City of Calumet City, Unincorporated Areas of Cook County, Village of Glenwood, Village of Thornton.
| Approximately 500 feet upstream of the confluence with Deer Creek | +615 | +616
Weller Creek | Approximately 570 feet downstream of Wisconsin Central Railroad | +639 | +637 | Village of Mount Prospect, City of Des Plaines.
| At downstream side of Central Road | None | +664
* National Geodetic Vertical Datum.
+ North American Vertical Datum.
# Depth in feet above ground.
ADDRESSES
City of Blue Island
Maps are available for inspection at Building Department, 13049 Greenwood Avenue, Blue Island, IL 60406.
Send comments to The Honorable Donald E. Peloquin, Mayor, City of Blue Island, 13051 Greenwood Ave., Blue Island, IL 60406.
City of Calumet City
Maps are available for inspection at Inspectional Services Department, 687 Wentworth Road, Calumet City, IL 60409.
Send comments to The Honorable Michelle Markiewicz Qualkinbush, Mayor, City of Calumet City, 204 Pulaski Rd, PO Box 1519, Calumet City, IL 60409.
City of Des Plaines
Maps are available for inspection at City of Des Plaines Civic Center, 1420 Miner St., Des Plaines, IL 60016.
Send comments to The Honorable Anthony Arredia, Mayor, City of Des Plaines, 1420 Miner St., Des Plaines, IL 60016.
City of Harvey
Maps are available for inspection at Harvey City Hall, Planning and Development Center, 15320 Broadway Avenue, Harvey, IL 60426.
Send comments to The Honorable Eric J. Kellogg, Mayor, City of Harvey, 15320 Broadway Ave., Harvey, IL 60426.
City of Markham
Maps are available for inspection at Markham City Hall, 16313 South Kedzie Parkway, Markham, IL 60426.
Send comments to The Honorable David Webb, Mayor, City of Markham, 16313 Kedzie Pky., Markham, IL 60426.
City of Park Ridge
Maps are available for inspection at Public Works Department, 505 Butler Place, Park Ridge, IL 60068.
Send comments to The Honorable Howard Frimark, Mayor, City of Park Ridge, 505 Butler Place, Park Ridge, IL 60068.
Unincorporated Areas of Cook County
Maps are available for inspection at Cook County Building and Zoning Department, 69 West Washington, Suite 2830, Chicago, IL 60602.
Send comments to The Honorable Todd Stroger, County Board President, 69 West Washington, Suite 2830, Chicago, IL 60602.
Village of Dixmoor
Maps are available for inspection at 170 West 145th Street, Dixmoor, IL 60419.
Send comments to The Honorable Keevan Grimmett, Village President, Village of Dixmoor, 170 W. 145th St., Dixmoor, IL 60426.
Village of Elk Grove Village
Maps are available for inspection at Engineering and Community Development Department, 901 Wellington Ave., Elk Grove Village, IL 60007.
Send comments to The Honorable Craig B. Johnson, Mayor, Elk Grove Village, 901 Wellington Ave., Elk Grove Village, IL 60007.
Village of Glenwood
Maps are available for inspection at Glenwood Building Department, 13 South Rebecca Street, Glenwood, IL 60425.
Send comments to The Honorable Jeanne Maggio, Village President, Village of Glenwood, 1 Asselborn Way, Glenwood, IL 60425.
Village of Hoffman Estates
Maps are available for inspection at Hoffman Estates Development Services Department, 1900 Hassell Rd., Hoffman Estates, IL 60169.
Send comments to The Honorable William D. McLeod, Village President, Village of Hoffman Estates, 1900 Hassell Rd., Hoffman Estates, IL 60169.
Village of Lansing
Maps are available for inspection at Lansing Building Department, 18200 Chicago Avenue, Lansing, IL 60438.
Send comments to The Honorable Daniel R. Podgorski, Village President, Village of Lansing, 18200 Chicago Ave., Lansing, IL 60438.
Village of Mount Prospect
Maps are available for inspection at Public Works Department, Engineering Division, 1700 West Central Road, Mount Prospect, IL 60056.
Send comments to The Honorable Irvana Wilks, Village President, Village of Mount Prospect, 50 S. Emerson St., Mount Prospect, IL 60056.
Village of Niles
Maps are available for inspection at Niles Public Works Department, 6849 West Touhy Avenue, Niles, IL 60714.
Send comments to The Honorable Nicholas B. Blase, Mayor, Village of Niles, 1000 Civic Center Drive, Niles, IL 60714.
Village of Riverdale
Maps are available for inspection at Village Hall, Office of Community and Economic Development, 157 West 144th Street, Riverdale, IL 60827.
Send comments to The Honorable Zenovia G. Evans, Mayor, Village of Riverdale, 157 W. 144th Street, Riverdale, IL 60827.
Village of South Holland
Maps are available for inspection at Village Planning & Development Department, 16226 Wausau Avenue, South Holland, IL 60473.
Send comments to The Honorable Don A. DeGraff, Village President, Village of South Holland, 16226 Wausau Avenue, South Holland, IL 60473.
Village of Thornton
Maps are available for inspection at Village Hall, 115 E. Margaret St., Thornton, IL 60476.
Send comments to The Honorable Jack C. Swan, Village President, Village of Thornton, 115 E. Margaret St., Thornton, IL 60476.
Lake County, Ohio, and Incorporated Areas
Grand River/Lake Erie | Village of Grand River north-eastern corporate limit | +575 | +576. | Village of Grand River.
Backwater | 220 feet upstream of Fairport, Painesville, and Eastern Railway | +575 | +576
Lake Erie | Entire Lake Erie coastline from the western City of Eastlake corporate limits to eastern corporate limits. Minor changes in floodplain boundaries | +575 | +576 | City of Eastlake.
| Entire Lake Erie coastline from the western City of Mentor corporate limits to eastern corporate limits. Minor changes in floodplain boundaries | +575 | +576 | City of Mentor.
| Entire Lake Erie coastline from the western City of Mentor-on-the-Lake corporate limits to eastern corporate limits. Minor changes in floodplain boundaries | +575 | +576 | City of Mentor-On-The-Lake.
| Entire Lake Erie coastline from the western Village of Fairport Harbor corporate limits to eastern corporate limits. Minor changes in floodplain boundaries | +579 | +576 | Village of Fairport Harbor.
| Entire Lake Erie coastline from the western Village of Lakeline corporate limits to eastern corporate limits | None | +576 | Village of Lakeline.
| Entire Lake Erie coastline from the western City of Willoughby corporate limits to eastern corporate limits | +575 | +576 | City of Willoughby.
| Entire Lake Erie coastline from the western City of Willowick corporate limits to eastern corporate limits. Minor changes in floodplain boundaries | +575 | +576 | City of Willowick.
| Entire Lake Erie coastline from the western Village of North Perry corporate limits to eastern corporate limits. Minor changes in floodplain boundaries | +580 | +576 | Village of North Perry.
| Entire Lake Erie coastline from the western City of Eastlake corporate limits to eastern corporate limits. Minor changes in floodplain boundaries | None | +576 | Village of Timberlake.
* National Geodetic Vertical Datum.
+ North American Vertical Datum.
# Depth in feet above ground.
ADDRESSES
City of Eastlake
Maps are available for inspection at 35150 Lakeshore Boulevard, Eastlake, OH 44095.
Send comments to The Honorable Ted Andrzejewski, Mayor, City of Eastlake, 35150 Lakeshore Boulevard, Eastlake, OH 44095.
City of Kirtland
Maps are available for inspection at 9301 Chillicothe Road, Kirtland, OH 44094.
Send comments to The Honorable Edward J. Podojil, Mayor, City of Kirtland, 9301 Chillicothe Road, Kirtland, OH 44094.
City of Mentor
Maps are available for inspection at 8500 Civic Center Boulevard, Mentor, OH 44060.
Send comments to The Honorable Ray Kirchner, Mayor, 8500 Civic Center Boulevard, Mentor, OH 44060.
City of Mentor-On-The-Lake
Maps are available for inspection at 5860 Andrews Road, Mentor-on-the-Lake, OH 44060.
Send comments to The Honorable John M. Rogers, Mayor, 5860 Andrews Road, Mentor-on-the-Lake, OH 44060.
City of Painesville
Maps are available for inspection at 7 Richmond Street, PO Box 601, Painesville, OH 44077.
Send comments to Ms. Rita C. McMahon, City Manager, City of Painesville, 7 Richmond Street, PO Box 601, Painesville, OH 44077.
City of Wickliffe
Maps are available for inspection at 28730 Ridge Road, Wickliffe, OH 44092.
Send comments to The Honorable Thomas W. Ruffner, Mayor, 28730 Ridge Road, Wickliffe, OH 44092.
City of Willoughby
Maps are available for inspection at 1 Public Square, Willoughby, OH 44094.
Send comments to The Honorable David E. Anderson, Mayor, City of Willoughby, 1 Public Square, Willoughby, OH 44094.
City of Willoughby Hills
Maps are available for inspection at 35405 Chardon Road, Willoughby Hills, OH 44094.
Send comments to The Honorable Kenneth Lorenz, Mayor, City of Willoughby Hills, 35405 Chardon Road, Willoughby Hills, OH 44094.
City of Willowick
Maps are available for inspection at 31230 Vine Street, Willowick, OH 44095.
Send comments to The Honorable Richard Bonde, Mayor, 30435 Lakeshore Boulevard, Willowick, OH 44095.
Unincorporated Areas of Lake County
Maps are available for inspection at 550 Blackbrook Road, Painesville, OH 44077.
Send comments to Mr. Daniel P. Troy, Lake County Commissioner, 105 Main Street, 4th Floor, PO Box 490, Painesville, OH 44077.
Village of Fairport Harbor
Maps are available for inspection at 220 Third Street, Fairport Harbor, OH 44077.
Send comments to The Honorable Frank J. Sarosy, Mayor, Village of Fairport Harbor, 220 Third Street, Fairport Harbor, OH 44077.
Village of Grand River
Maps are available for inspection at 205 Singer Avenue, PO Box 216, Grand River, OH 44045-0216.
Send comments to The Honorable Christopher W. Conley, Mayor, Village of Grand River, 205 Singer Avenue, PO Box 216, Grand River, OH 44045-0216.
Village of Lakeline
Maps are available for inspection at 33512 Lake Shore Boulevard, Lakeline, OH 44095.
Send comments to The Honorable Mike Rayl, Mayor, Village of Lakeline, 33512 Lake Shore Boulevard, Lakeline, OH 44095.
Village of Madison
Maps are available for inspection at 126 West Main Street, Madison, OH 44057.
Send comments to The Honorable Michael Evangelifta, Mayor, Village of Madison, 126 West Main Street, Madison, OH 44057.
Village of North Perry
Maps are available for inspection at 4449 Lockwood Road, North Perry, OH 44081.
Send comments to The Honorable Michael Zinn, Mayor, Village of North Perry, 4449 Lockwood Road, North Perry, OH 44081.
Village of Perry
Maps are available for inspection at 3758 Center Road, PO Box 100, Perry, OH 44081.
Send comments to The Honorable Laurence Logan, Mayor, Village of Perry, 3758 Center Road, PO Box 100, Perry, OH 44081.
Village of Timberlake
Maps are available for inspection at 11 East Shore Boulevard, Timberlake, OH 44095.
Send comments to The Honorable John P. Roskos, Mayor, Village of Timberlake, 11 East Shore Boulevard, Timberlake, OH 44095.
Village of Waite Hill
Maps are available for inspection at 7215 Eagle Road, Waite Hill, OH 44094.
Send comments to The Honorable Arthur D. Baldwin II, Mayor, Village of Waite Hill, 7215 Eagle Road, Waite Hill, OH 44094.
Erie County, Ohio, and Incorporated Areas
Boos Ditch | Approximately 400 feet from mouth | +576 | +577 | Unincorporated Areas of Erie County.
| Mouth at Lake Erie | +576 | +577
Hahn Creek | Mouth at Lake Erie | +576 | +577 | City of Huron.
| Downstream of Cleveland Road | +576 | +577
Huron River | Mouth at Lake Erie | +576 | 577 | City of Huron.
| Approximately 3,700 feet upstream of Norfolk Southern Corporation Railroad | +576 | +577
Lake Erie | Entire Lake Erie coastline from the western City of Huron corporate limits to eastern corporate limits. Spans multiple Lake Erie reaches. Minor changes in floodplain boundaries | +576 | +577 | City of Huron.
| Entire Lake Erie coastline from the western City of Huron corporate limits to eastern corporate limits. Spans multiple Lake Erie reaches. Minor changes in floodplain boundaries | +586 | +577
| Entire Lake Erie coastline from the western City of Huron corporate limits to eastern corporate limits. Spans multiple Lake Erie reaches. Minor changes in floodplain boundaries | +591 | +577
| Entire Lake Erie coastline from the western City of Huron corporate limits to eastern corporate limits. Spans multiple Lake Erie reaches. Minor changes in floodplain boundaries | +591 | +577
| Entire Lake Erie coastline from the western City of Sandusky corporate limits to eastern corporate limits. Spans multiple Lake Erie reaches. Minor changes in floodplain boundaries | +576 | +577 | City of Sandusky.
| Entire Lake Erie coastline from the western Village of Kelleys Island corporate limits to eastern corporate limits. Minor changes in floodplain boundaries | +577 | +578 | Village of Kelleys Island.
| Entire Lake Erie coastline within Erie County. Spans multiple Lake Erie reaches. Minor changes in floodplain boundaries | +576 | +577 | Unincorporated Areas of Erie County.
| Entire Lake Erie coastline within Erie County. Spans multiple Lake Erie reaches. Minor changes in floodplain boundaries | +576 | +577
Mudbrook Creek | Mouth at Huron River | +576 | +577 | City of Huron.
| Downstream of Mudbrook Road | +576 | +577
Plum Creek | Downstream of US6 Highway | +576 | +577 | Unincorporated Areas of Erie County.
| Mouth at Lake Erie | +576 | +577
Sawmill Creek | Approximately 1,900 feet upstream from mouth | +576 | +577 | Unincorporated Areas of Erie County.
| Mouth at Lake Erie | +576 | +577
City of Huron
Maps are available for inspection at Huron Township Station, 1820 Bogart Road, Huron, OH 48839.
Send comments to Mr. Andrew D. White, City Manager, City of Huron, 417 Main Street, PO Box 468, Huron, OH 44839.
City of Sandusky
Maps are available for inspection at 222 Meigs Street, Sandusky, OH 44870.
Send comments to Mr. Don Miears, Interim City Manager, City of Sandusky, 222 Meigs Street, Sandusky, OH 44870.
Unincorporated Areas of Erie County
Maps are available for inspection at 2900 Columbus Avenue, Sandusky, OH 44870.
Send comments to Mr. Alex MacNicol, Erie County Regional Planning Office, 2900 Columbus Avenue, Sandusky, OH 44870.
Village of Bay View
Maps are available for inspection at 304 East Bay View Drive, Sandusky, OH 44870.
Send comments to The Honorable Paul Snyder, Mayor, Village of Bay View, 304 E. Bay View Drive, Sandusky, OH 44870.
Village of Berlin Heights
Maps are available for inspection at 8 West Main Street, Berlin Heights, OH 44814.
Send comments to The Honorable Kelly Moon, Mayor, 8 West Main Street, PO Box 30, Berlin Heights, OH 44814.
Village of Castalia
Maps are available for inspection at 126 Main Street, Castalia, OH 44824.
Send comments to The Honorable Robert Wolfbrandt, Mayor, Village of Castalia, 126 Main Street, Castalia, OH 44824.
Village of Kelleys Island
Maps are available for inspection at Municipal Building of Kelleys Island, 121 Addison Street, Kelley Island, OH 43438.
Send comments to The Honorable Robert Quinn, Mayor, Village of Kelleys Island, 121 Addison Street, PO Box 469, Kelleys Island, OH 43438.
Village of Milan
Maps are available for inspection at 11 South Main Street, PO Box 1450, Milan, OH 44846.
Send comments to The Honorable Robert Bickley, Mayor, 11 South Main Street, PO Box 1450, Milan, OH 44846.
Lincoln County, South Dakota, and Incorporated Areas
Ninemile Creek | Just downstream from 274th Street | None | +1385 | Town of Harrisburg.
Ninemile Creek | Just upstream from 272nd Street | None | +1472 | Town of Tea.
| Approximately 320 feet downstream from Kevin Drive | None | 1477
| Approximately 650 feet upstream from Ryan Drive | None | +1483
Ninemile Creek | Just downstream from 273rd Street | None | +1311 | Unincorporated Areas of Lincoln County.
| Just upstream from South Dakota Highway 115 | None | +1411
| 1550 feet upstream from 469th Avenue | None | +1518
Tributary | Approximately 2150 feet downstream from 475th Avenue | None | +1391 | Town of Harrisburg.
| Approximately 500 feet downstream from 475th Avenue at the Corporate Limit line | None | +1400
| Just downstream from 273rd Street | None | +1417
| Just upstream from the confluence with Ninemile Creek | None | +1387 | Unincorporated Areas of Lincoln County.
| Approximately 2050 feet upstream from 273rd Street | None | +1425
| Just downstream from 473rd Avenue | None | +1466
Schindler Creek | Just upstream from the confluence with Ninemile Creek | None | +1267 | Unincorporated Areas of Lincoln County.
| Just downstream from 477th Avenue | None | +1394
| Approximately 1150 feet upstream from 271st Street | None | +1452
Spring Creek | Just upstream from the confluence with Big Sioux River | None | +1269 | Unincorporated Areas of Lincoln County.
| Just downstream from South Dakota Highway 11 | None | +1368
| Approximately 950 feet upstream from Cliff Avenue | None | +1461
Tributary | Just upstream from the confluence with Spring Creek | None | +1346 | Unincorporated Areas of Lincoln County.
| Just downstream from Cody Road | None | +1392
| Just upstream from 269th Street | None | +1425
* National Geodetic Vertical Datum.
+ North American Vertical Datum.
# Depth in feet above ground.
ADDRESSES
Town of Harrisburg
Maps are available for inspection at P.O. BOX 26, Harrisburg, SD 57032.
Send comments to The Honorable Reed Ramstad, Mayor, Town of Harrisburg, P.O. BOX 26, Harrisburg, SD 57032.
Town of Tea
Maps are available for inspection at 600 East 1st Street, P.O. BOX 128, Tea, SD 57064.
Send comments to The Honorable John Lawler, Mayor, Town of Tea, P.O. BOX 128, Tea, SD 57064-0128.
Unincorporated Areas of Lincoln County
Maps are available for inspection at 224 West Ninth Street, Sioux Falls, SD 57104.
Send comments to Commissioner Michael Poppens, Commissioner, Lincoln County South Dakota, 100 East 5th Street, Canton, SD 57013.
Washington County, Utah, and Incorporated Areas
Ash Creek | Just upstream of the confluence with Virgin River | None | +3001 | City of Toquerville, City of Laverkin.
| Approximately 2682 feet upstream of State Street | None | +3425
Cottonwood Spring Wash | Just upstream of the confluence with Shoal Creek | None | +5309 | Unincorporated Areas of Washington County, City of Enterprise.
| Approximately 16 feet downstream of SR-18 | None | +5369 |
Cottowood Wash | Just upstream of the confluence with Grapevine Pass Wash | None | +2681 | City of Washington.
| Approximately 361 feet downstream of State Street | None | +3086 |
Coyote Wash | Approximately 105 feet upstream of Kayenta Dr | None | +2976 | Unincorporated Areas of Washington County, Town of Ivins.
| Just upstream of the confluence with Santa Clara River | None | +3388 |
Fort Pierce Wash | At River Road | +2615 | +2616 | Unincorporated Areas of Washington County, City of St. George.
| Approximately 6.3 miles upstream of River Road | None | +2772
Gould Wash | Just upstream of the confluence with Virgin River | None | +2898 | Unincorporated Areas of Washington County, City of Hurricane.
| Approximately 2024 feet upstream of 180 West Street | None | +3290 |
Grapevine Pass Wash | Just upstream of the confluence with Virgin River | None | +2641 | City of Washington.
| Approximately 3165 feet downstream of I-15 | None | +2962 |
Kayenta Wash | Just upstream of the confluence with Santa Clara River | None | +2962 | Unincorporated Areas of Washington County, Town of Ivins.
| Approximately 21 feet downstream of Taviawk Drive | None | +3237 |
Lava Flow Wash | Just upstream of the confluence with Tuacahn Wash | None | +2848 | City of Santa Clara.
| Approximately 1100 feet upstream of Rachel Dr | None | +2918 |
Middleton Wash | Just upstream of the confluence with Virgin River | +2578 | +2583 | City of St. George.
| Approximately 3155 feet upstream of I-15 | +2893 | +2910 |
Mill Creek | Just upstream of the confluence with Virgin River | None | +2629 | City of Washington, City of St. George.
| Approximately 3622 feet upstream of Buena Vista Boulevard | None | +2866 |
North Fork Virgin River | Just upstream of the confluence with East Fork Virgin River | None | +3774 | Town of Springdale.
| Approximately 3.75 miles upstream of the confluence with East Fork Virgin River | None | +3921 |
Sand Hollow Wash | At the confluence of Halfway Wash | +2689 | +2690 | City of Santa Clara, City of St. George.
| Approximately 2449 feet upstream of Tuacahn Parkway | None | +2956 |
Santa Clara River | Just upstream of the confluence with Virgin River | +2543 | +2538 | Unincorporated Areas of Washington County, City of Santa Clara, City of St. George.
| Approximately 1.2 miles upstream of Summerwood Circle | +2788 | +2785 |
Shoal Creek | Approximately 2893 feet upstream of Center Street | None | +5308 | Unincorporated Areas of Washington County, City of Enterprise.
| Approximately 1838 feet downstream of Center Street | None | +5321 |
Spring Creek | Just upstream of the confluence with Shoal Creek | None | +5321 | Unincorporated Areas of Washington County, City of Enterprise.
| Approximately 2314 feet upstream 100 S ST | None | +5346 |
Tuacahn Wash | Approximately 492 feet downstream of Little League Drive | None | +2782 | City of Santa Clara, Town of Ivins.
| Approximately 1765 feet upstream of Tuacahn Drive | None | +3078 |
Unnamed Wash 1 to Cottonwood Wash | Just upstream of the confluence with Cottonwood Wash | None | +2930 | City of Washington.
| 310 feet downstream of State Street | None | +3074 |
Virgin River | Approximately 3303 feet dowstream of confluence with Big Valley Wash | None | +2467 | Unincorporated Areas of Washington County, City of St. George, City of Washington.
| Approximately 1.78 miles upstream of the confluence with Grapevine Pass Wash | None | +2664 |
* National Geodetic Vertical Datum.
# Depth in feet above ground.
+ North American Vertical Datum.
ADDRESSES
City of Enterprise
Maps are available for inspection at 375 S 300 E, Enterprise, UT 84725.
Send comments to S. Lee Bracken, Mayor, PO Box 340, Enterprise, UT 84725.
City of Hurricane
Maps are available for inspection at 147 N 870 W, Hurricane, UT 84737
Send comments to Tom Hirschi, Mayor, 147 North 870 West, Hurricane, UT 84737.
City of Laverkin
Maps are available for inspection at 435 N Main, Laverkin, UT 84745.
Send comments to Doug Gubler, PW Director, 435 North Main, Laverkin, UT 84745.
City of Santa Clara
Maps are available for inspection at 2721 Santa Clara Dr, Santa Clara, UT 84765.
Send comments to Dennis Drake, Mayor, 2721 Santa Clara Drive, Santa Clara, UT 84765.
City of St. George
Maps are available for inspection at 175 E 200 N, St George, UT 84770.
Send comments to Dave Demas, City Engineer, 175 East 200 North, St. George, UT 84770.
City of Toquerville
Maps are available for inspection at 212 Toquer Blvd, Toquerville, UT 84774.
Send comments to Ken Powell, Mayor, P.O. Box 27, Toquerville, UT 84774.
City of Washington
Maps are available for inspection at 111 N 100 E, Washington, UT 84780.
Send comments to Terrill Clove, Mayor, 111 North 100 East, Washington, UT 84780.
Town of Ivins
Maps are available for inspection at 55 N Main, Ivins, UT 84738.
Send comments to Chuck Gillette, City Engineer, 55 North Main, Ivins, UT 84738.
Town of Springdale
Maps are available for inspection at 197 E Tabernacle St, St George, UT 84770.
Send comments to Rick Wixom, Town Manager, P.O. Box 187, Springdale, UT 84767.
Unincorporated Areas of Washington County
Maps are available for inspection at 197 E Tabernacle St, St George, UT 84770.
Send comments to Jim Eardley, County Commissioner, 197 E. Tabernacle, St. George, UT 84770.

(Catalog of Federal Domestic Assistance No. 97.022, “Flood Insurance.”)

Dated: September 6, 2007.
David I. Maurstad,
Federal Insurance Administrator of the National Flood Insurance Program, Department of Homeland Security, Federal Emergency Management Agency.

[FR Doc. E7-18290 Filed 9-14-07; 8:45 am]

BILLING CODE 9110-12-P